DEPARTMENT OF HEALTH AND HUMAN SERVICES

Meeting of the Advisory Committee on Blood Safety and Availability

AGENCY: Office of Public Health and Science, Office of the Secretary, DHHS.

ACTION: Notice.

SUMMARY: As stipulated by the Federal Advisory Committee Act, the U.S. Department of Health and Human Services is hereby giving notice that the Advisory Committee on Blood Safety and Availability (ACBSA) will hold a meeting. The ACBSA will meet to review progress and solicit additional input regarding numerous recommendations made during the past year, specifically biovigilance of blood components and its derivatives, cells, tissues, and organs. Vigilance is recognized as a necessary step in monitoring outcomes in a quality assurance process toward the goal of providing safe and available biological products (i.e., blood components and derivatives, cells, tissues and organs) and improvement of care of the donor and recipient. Elements necessary for vigilant surveillance are detection, analysis, reporting, utilizations, research, education, and management of outcomes, including emerging or re-emerging infectious and non-infectious events of transfusion and/or transplantation, will be discussed.

DATES: The meeting will take place Wednesday, August 30 and Thursday, August 31, 2006 from 9 a.m. to 5 p.m.

ADDRESSES: Marriott Crystal Gateway, 1700 Jeff Davis Highway, Arlington, VA 22202.

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8809, fax (240) 453-8456, e-mail jholmberg@osophs.dhhs.gov.

SUPPLEMENTARY INFORMATION: Public comment will be solicited at the meeting and will be limited to five minutes per speaker. Individuals who wish to present comments to the Committee should contact the Executive Secretary to register no later than close of business on August 25, 2006. Individuals who wish to have printed material distributed are encouraged to provide thirty (30) copies to the Executive Secretary no later than close of business August 25, 2006. Likewise, those who wish to utilize electronic data projection to the Committee must submit their materials to the Executive Secretary prior to close of business August 25, 2006.

Dated: July 20, 2006.
Jerry A. Holmberg,
Executive Secretary, Advisory Committee on Blood Safety and Availability.

[FR Doc. E6-11962 Filed 7-25-06; 8:45 am]

BILLING CODE 4150-41-P